DEPARTMENT OF TRANSPORTATION

Federal Aviation Administration

14 CFR Part 39

[Docket No. 98-NM-207-AD]

RIN 2120-AA64

Airworthiness Directives; Airbus Model A300 and A300-600 Series Airplanes

AGENCY: Federal Aviation Administration, DOT.

ACTION: Notice of proposed rulemaking (NPRM).

SUMMARY: This document proposes the adoption of a new airworthiness directive (AD) that is applicable to certain Airbus Model A300 and A300-600 series airplanes. This proposal would require a high frequency eddy current (HFEC) inspection to detect cracking of the rear fittings of fuselage frame FR40 at stringer 27, and repetitive inspections or repair, as applicable. In lieu of accomplishing the repetitive inspections, this proposal requires a modification that would allow the inspection to be deferred for a certain period of time. This proposal is prompted by issuance of mandatory continuing airworthiness information by a foreign civil airworthiness authority. The actions specified by the proposed AD are intended to detect and correct fatigue cracking of the rear fittings of fuselage frame FR40 at stringer 27, which could result in reduced structural integrity of the airplane.

DATES: Comments must be received by June 9, 2000.

ADDRESSES: Submit comments in triplicate to the Federal Aviation Administration (FAA), Transport Airplane Directorate, ANM-114, Attention: Rules Docket No. 98-NM-207-AD, 1601 Lind Avenue, SW., Renton, Washington 98055-4056. Comments may be inspected at this location between 9 a.m. and 3p.m., Monday through Friday, except Federal holidays.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax

(425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 98-NM-207-AD.” The postcard will be date stamped and returned to the commenter.

Availability of NPRMs

Any person may obtain a copy of this NPRM by submitting a request to the FAA, Transport Airplane Directorate, ANM-114, Attention: Rules Docket No. 98-NM-207-AD, 1601 Lind Avenue, SW., Renton, Washington 98055-4056.

Discussion

The Direction Générale de l'Aviation Civile (DGAC), which is the airworthiness authority for France, notified the FAA that an unsafe condition may exist on certain Airbus Model A300 and A300-600 series airplanes. The DGAC advises that fatigue cracks have been found in the rear fittings of fuselage frame FR40 at stringer 27 on in-service airplanes. These cracks are believed to be caused by a significant change in the geometry of the fitting combined with cabin pressure and wing loading. This condition, if not corrected, could result in reduced structural integrity of the airplane.

Explanation of Relevant Service Information

Airbus has issued Service Bulletins A300-53-0332 and A300-57-6075, both dated November 24, 1997, which describe procedures for repetitive high frequency eddy current (HFEC) inspections to detect cracks of the rear fittings of fuselage frame FR40 at stringer 27; and repair, if necessary. In lieu of accomplishing the repetitive inspections for cases where no cracking is detected, the service bulletins allow the deferral of the repetitive inspections provided that the modification described below is accomplished.

Airbus also has issued Service Bulletins A300-53-0333 and A300-57-6076, both dated November 24, 1997, which describe procedures for modification of the rear fittings of the fuselage frame FR40 at stringer 27. The modification includes defining a new stiffener geometry and chamfering the radius of the rear fittings of fuselage frame FR40.

Accomplishment of the actions specified in the service bulletins is intended to adequately address the identified unsafe condition. The DGAC classified Service Bulletins A300-53-0332 and A300-57-6075 as mandatory and issued French airworthiness directive 98-028-242(B), dated January 28, 1998, in order to assure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Differences Between Proposed Rule and French Airworthiness Directive

Operators should note that, although the service bulletins specify that the manufacturer may be contacted for disposition of certain repair conditions, this proposal would require the repair of those conditions to be accomplished in accordance with a method approved by either the FAA, or the DGAC (or its delegated agent). In light of the type of repair that would be required to address the identified unsafe condition, and in consonance with existing bilateral airworthiness agreements, the FAA has determined that, for this proposed AD, a repair approved by either the FAA or the DGAC would be acceptable for compliance with this proposed AD.

Operators should note that, unlike particular provisions in Service Bulletins A300-53-0332 and A300-57-6075 regarding adjustment of the compliance times using an “adjustment-for-range” formula, this proposed AD would not permit formulaic adjustments of the inspection compliance times. The FAA has determined that such adjustments may present difficulties in determining if the applicable inspections and modifications have been complied with in the appropriate time frame. Further, while such adjustable compliance times are utilized as part of the Maintenance Review Board program, they do not fit practically into the AD tracking process for operators or for Principal Maintenance Inspectors attempting to ascertain compliance with AD's. Therefore, the FAA has determined that fixed compliance times should be specified for accomplishment of the actions required by this AD.

Additionally, after discussions with the DGAC and the manufacturer, the FAA has determined that flight hour maximums should be included as part of the compliance threshold and repetitive intervals for the inspections required by this proposed AD. Inclusion of a compliance threshold in terms of total flight hours as well as total flight cycles, and requiring inspection at the earlier of those times, will ensure that airplanes with longer than average flight times are inspected at a threshold and intervals necessary to maintain safety. Accordingly, the FAA has specified that the initial inspection must be accomplished at the earliest time an airplane reaches certain accumulated total flight cycles or total flight hours, and that repetitive inspections are to be accomplished at intervals not to exceed certain flight cycles or flight hours, whichever occurs first.

Cost Impact

There are approximately 344 Model A300 and A300-600 series airplanes of the affected design in the worldwide fleet. The FAA estimates that 85 airplanes of U.S. registry would be affected by this AD. It would take approximately 1 work hour per airplane to accomplish the proposed HFEC inspection, at an average labor rate is $60 per work hour. Based on these figures, the cost impact of the inspection proposed by this AD on U.S. operators is estimated to be $5,100, or $60 per airplane, per inspection cycle.

Should an operator be required to accomplish the modification rather than the repetitive inspections, it would take approximately 3 work hours per airplane to accomplish. Based on these figures, the cost impact of the modification required by this proposed AD on U.S. operators is estimated to be $15,300 or $180 per airplane.

The cost impact figures discussed above are based on assumptions that no operator has yet accomplished any of the proposed requirements of this AD action, and that no operator would accomplish those actions in the future if this AD were not adopted.

Regulatory Impact

The regulations proposed herein would not have substantial direct effects on the States, on the relationship between the national government and the States, or on the distribution of power and responsibilities among the various levels of government. Therefore, in accordance with Executive Order 12612, it is determined that this proposal would not have sufficient federalism implications to warrant the preparation of a Federalism Assessment.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 98-NM-207-AD.

Applicability: Model A300 and A300-600 series airplanes, on which Airbus Modification 11525 has not been accomplished; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To detect and correct fatigue cracking of the rear fittings of fuselage frame FR40 at stringer 27, which could result in reduced structural integrity of the airplane, accomplish the following:

Inspection

(a) Perform a high frequency eddy current (HFEC) inspection to detect cracks in the stiffeners at stringer 27 of the rear fitting of fuselage frame FR40, left and right, in accordance with Airbus Service Bulletin A300-53-0332, dated November 24, 1997 (for Model A300 B2 and B4 series airplanes), or Airbus Service Bulletin A300-57-6075, dated November 24, 1997 (for Model A300-600 series airplanes); as applicable; at the applicable time specified in paragraph (a)(1), (a)(2), (a)(3), (a)(4), (a)(5), (a)(6), (a)(7), or (a)(8) of this AD.

(1) For Model A300 B2 series airplanes that have accumulated less than 26,000 total flight cycles as of the effective date of this AD: Inspect at the earlier of the times specified in paragraphs (a)(1)(i) and (a)(1)(ii) of this AD.

(i) Prior to the accumulation of 11,100 total flight cycles, or within 3,000 flight cycles after the effective date of this AD, whichever occurs later.

(ii) Prior to the accumulation of 14,300 total flight hours, or within 3,800 flight hours after the effective date of this AD, whichever occurs later.

(2) For Model A300 B2 series airplanes that have accumulated 26,000 or more total flight cycles as of the effective date of this AD: Inspect within 2,200 flight cycles or 2,800 flight hours after the effective date of this AD, whichever occurs first.

(3) For Model A300 B4-100 series airplanes that have accumulated less than 20,000 total flight cycles as of the effective date of this AD: Inspect at the earlier of the times specified in paragraphs (a)(3)(i) and (a)(3)(ii) of this AD.

(i) Prior to the accumulation of 8,100 total flight cycles, or within 3,000 flight cycles after the effective date of this AD, whichever occurs later.

(ii) Prior to the accumulation of 15,700 total flight hours, or within 5,800 flight hours after the effective date of this AD, whichever occurs later.

(4) For Model A300 B4-100 series airplanes that have accumulated 20,000 or more total flight cycles as of the effective date of this AD: Inspect within 1,800 flight cycles or 3,400 flight hours after the effective date of this AD, whichever occurs first.

(5) For Model A300 B4-200 series airplanes that have accumulated less than 14,000 total flight cycles as of the effective date of this AD: Inspect at the earlier of the times specified in paragraphs (a)(5)(i) and (a)(5)(ii) of this AD.

(i) Prior to the accumulation of 8,300 total flight cycles, or within 3,000 flight cycles after the effective date of this AD, whichever occurs later.

(ii) Prior to the accumulation of 17,200 total flight hours, or within 6,200 flight hours after the effective date of this AD, whichever occurs later.

(6) For Model A300 B4-200 series airplanes that have accumulated 14,000 or more total flight cycles as of the effective date of this AD: Inspect within 1,700 flight cycles or 3,500 flight hours after the effective date of this AD, whichever occurs first.

(7) For Model A300-600 series airplanes that have accumulated less than 18,000 total flight cycles as of the effective date of this AD: Inspect at the earlier of the times specified in paragraphs (a)(7)(i) and (a)(7)(ii) of this AD.

(i) Prior to the accumulation of 5,800 total flight cycles, or within 2,700 flight cycles after the effective date of this AD, whichever occurs later.

(ii) Prior to the accumulation of 15,100 total flight hours, or within 7,000 flight hours after the effective date of this AD, whichever occurs later.

(8) For Model A300-600 series airplanes that have accumulated 18,000 or more total flight cycles as of the effective date of this AD: Inspect within 1,400 flight cycles or 3,600 flight hours after the effective date of this AD, whichever occurs first.

Repetitive Inspections

(b) If no crack is detected during the initial inspection required by paragraph (a) of this AD, except as provided by paragraph (e) of this AD, repeat the inspection required by paragraph (a) of this AD at the time specified in paragraph (b)(1), (b)(2), (b)(3), or (b)(4) of this AD, as applicable.

(1) For Model A300 B2 series airplanes: Repeat at intervals not to exceed 2,100 flight cycles or 2,700 flight hours, whichever occurs first.

(2) For Model A300 B4-100 series airplanes: Repeat at intervals not to exceed 1,500 flight cycles or 3,000 flight hours, whichever occurs first.

(3) For Model A300 B4-200 series airplanes: Repeat at intervals not to exceed 1,700 flight cycles or 3,500 flight hours, whichever occurs first.

(4) For Model A300-600 series airplanes: Repeat at intervals not to exceed 1,300 flight cycles or 3,400 flight hours, whichever occurs first.

Repair Cracking Found During Inspections

(c) If any crack is found during any inspection required by paragraph (a) or (b) of this AD and the crack is less than 0.787 inches long, prior to further flight, repair in accordance with Airbus Service Bulletin A300-53-0332, dated November 24, 1997 (for Model A300 B2 and B4 series airplanes), or Airbus Service Bulletin A300-57-6075, dated November 24, 1997 (for Model A300-600 series airplanes); as applicable. Perform the inspection required by paragraph (a) of this AD one more time at the time specified in paragraph (c)(1), (c)(2), (c)(3), or (c)(4) of this AD, as applicable, and accomplish the actions specified in paragraph (f) or (g) of this AD, as applicable.

(1) For Model A300 B2 series airplanes: Within 42,400 flight cycles or 54,600 flight hours after accomplishment of the repair, whichever occurs first.

(2) For Model A300 B4-100 series airplanes: Within 29,300 flight cycles or 56,700 flight hours after accomplishment of the repair, whichever occurs first.

(3) For Model A300 B4-200 series airplanes: Within 31,900 flight cycles or 66,100 flight hours after accomplishment of the repair, whichever occurs first.

(4) For Model A300-600 series airplanes: Within 22,000 flight cycles or 57,500 flight hours after accomplishment of the repair, whichever occurs first.

(d) If any crack is found during any inspection required by paragraph (a) or (b) of this AD and the crack is 0.787 inches long or more, prior to further flight, repair it in accordance with a method approved by the Manager, International Branch, ANM-116, FAA, Transport Airplane Directorate, or the Direction Générale de l'Aviation Civile (DGAC) (or its delegated agent). For a repair method to be approved by the Manager, International Branch, ANM-116, as required by this paragraph, the Manager's approval letter must specifically reference this AD.

Deferral of Repetitive Inspections by Modification

(e) In lieu of accomplishing the requirements of paragraph (b) of this AD, prior to further flight after accomplishing the inspection required by paragraph (a) of this AD, modify the rear fitting at stringer 27 at FR40 of the center fuselage in accordance with Airbus Service Bulletin A300-53-0333, dated November 24, 1997 (Model A300 B2 and B4 series airplanes), or Airbus Service Bulletin A300-57-6076, dated November 24, 1997 (for Model A300-600 series airplanes); as applicable. Following accomplishment of the modification, perform the inspection required by paragraph (a) of this AD one more time at the time specified in paragraph (e)(1), (e)(2), (e)(3), or (e)(4) of this AD, as applicable, and accomplish the actions specified in paragraph (f) or (g) of this AD, as applicable.

(1) For Model A300 B2 series airplanes: Within 56,800 flight cycles or 73,100 flight hours after accomplishment of the modification, whichever occurs first.

(2) For Model A300 B4-100 series airplanes: Within 39,200 flight cycles or 75,900 flight hours after accomplishment of the modification, whichever occurs first.

(3) For Model A300 B4-200 series airplanes: Within 42,700 flight cycles or 88,400 flight hours after accomplishment of the modification, whichever occurs first.

(4) For Model A300-600 series airplanes: Within 29,400 flight cycles or 76,800 flight hours after accomplishment of the modification, whichever occurs first.

Follow-On Action if No Cracking Is Found During Certain Inspections

(f) If no crack is detected during the inspection required by paragraph (c) or (e) of this AD, prior to further flight, contact the Manager, International Branch, ANM-116, or the DGAC (or its delegated agent) for the next inspection time(s), and repeat the inspection(s) thereafter at those times.

Repair for Cracking Found During a Certain Inspection

(g) If any crack is detected during the inspection required by paragraph (c) or (e) of this AD, prior to further flight, repair it in accordance with a method approved by the Manager, International Branch, ANM-116, or the DGAC (or its delegated agent). For a repair method to be approved by the Manager, International Branch, ANM-116, as required by this paragraph, the Manager's approval letter must specifically reference this AD.

Alternative Methods of Compliance

(h) An alternative method of compliance or adjustment of the compliance time that provides an acceptable level of safety may be used if approved by the Manager, International Branch, ANM-116. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(i) Special flight permits may be issued in accordance with sections 21.197 and 21.199 of the Federal Aviation Regulations (14 CFR 21.197 and 21.199) to operate the airplane to a location where the requirements of this AD can be accomplished.

Note 3: The subject of this AD is addressed in French airworthiness directive 98-028-242 (B), dated January 28, 1998.

Issued in Renton, Washington, on May 3, 2000.
Vi L. Lipski,
Acting Manager, Transport Airplane Directorate, Aircraft Certification Service.

[FR Doc. 00-11719 Filed 5-9-00; 8:45 am]

BILLING CODE 4910-13-U